DEPARTMENT OF COMMERCE

Foreign-Trade Zones Board

(Docket 26-2005)

Foreign-Trade Subzone 84C-La Porte, Texas, Expansion of Subzone and of Manufacturing Authority, E.I. du Pont de Nemours and Company, Inc., (Crop Protection Products)

An application has been submitted to the Foreign-Trade Zones Board (the Board) by the Port of Houston Authority, grantee of Foreign-Trade Zone 84, to expand Subzone 84C, at the E.I. du Pont de Nemours and Company, Inc. (DuPont) plant located at one existing site and one proposed site in La Porte, Texas, and to expand the scope of manufacturing authority under zone procedures for Subzone 84C. The application was submitted pursuant to the Foreign-Trade Zones Act, as amended (19 U.S.C. 81a-81u), and the regulations of the Board (15 CFR part 400). It was formally filed on May 27, 2005.

Subzone 84C was approved by the Board in 1990 at one site located at 12501 Strang Road in La Porte (Board Order 476, 55 FR 28263, 7/10/1990). The applicant is now proposing to expand Subzone 84C to include a second site (including up to 2 buildings with 289,237 square feet of enclosed space on 35.4 acres) at 11505 Highway 225 in La Porte.

DuPont also seeks to expand the scope of manufacturing activity authorized to be conducted under zone procedures at Subzone 84C. DuPont's original authority was granted for the manufacture of hydrofluoric acid. The company now seeks to manufacture, test, package and warehouse certain intermediate chemicals for crop protection products, including sulfonylurea herbicides. The intermediate chemicals will be transferred to other DuPont facilities, including existing subzones, for further manufacturing into finished products.

There are two specific inputs and two specific finished intermediates that DuPont intends to produce initially under expanded FTZ manufacturing authority. The inputs are classifiable under HTSUS categories 2930.90 and 2933.39, while the finished intermediates both are classifiable under category 2935.00. The application also requests authority to include a broad range of inputs and finished crop protection products that DuPont may produce under FTZ procedures in the future. (New major activity in these inputs/products could require review by the FTZ Board.) General HTSUS headings of inputs include: 2529, 2807, 2811, 2813, 2814, 2815, 2825, 2826, 2827, 2829, 2830, 2833, 2835, 2836, 2837, 2838, 2851, 2901, 2902, 2903, 2904, 2905, 2906, 2907, 2908, 2909, 2910, 2911, 2912, 2913, 2914, 2915, 2916, 2917, 2918, 2919, 2920, 2921, 2922, 2923, 2924, 2925, 2926, 2927, 2928, 2929, 2930, 2931, 2932, 2933, 2934, 2935, 2938, 2939, 2940, 2942, 3301, 3302, 3402, 3808, 3815, 3824, 3901, 3912, 3919, 3920, 3921, 3923, 3926, 4817, and 4819. Duty rates for these materials range from duty-free to 7.2% ad valorem. Finished products that may be produced from the inputs listed above include these general HTSUS headings: 2811, 2901, 2902, 2903, 2904, 2905, 2906, 2907, 2908, 2909, 2910, 2911, 2912, 2913, 2914, 2915, 2916, 2917, 2918, 2919, 2920, 2921, 2922, 2923, 2924, 2925, 2926, 2927, 2928, 2929, 2930, 2931, 2932, 2933, 2934, 2935, 2938, 2939, 2942, 3808, and 3824. Duty rates for these products range from duty-free to 6.5% ad valorem.

The proposed expanded scope of FTZ manufacturing authority would exempt DuPont from Customs duty payments on foreign inputs if used in production for export. On its domestic shipments, DuPont could apply to foreign inputs lower duty rates that apply to the finished products, where applicable. Some of Dupont's domestic shipments may be zone-to-zone transfers from the La Porte plant of intermediate inputs to be used in manufacturing at other U.S. DuPont facilities.

In accordance with the Board's regulations, a member of the FTZ Staff has been designated examiner to investigate the application and report to the Board.

Public comment is invited from interested parties. Submissions (original and 3 copies) shall be addressed to the Board's Executive Secretary at one of the following addresses:

1. Submissions via Express/Package Delivery Services: Foreign-Trade-Zones Board, U.S. Department of Commerce, Franklin Court Building--Suite 4100W, 1099 14th St. NW., Washington, DC 20005; or

2. Submissions via the U.S. Postal Service: Foreign-Trade-Zones Board, U.S. Department of Commerce, FCB--Suite 4100W, 1401 Constitution Ave. NW., Washington, DC 20230.

The closing period for their receipt is August 15, 2005. Rebuttal comments in response to material submitted during the foregoing period may be submitted during the subsequent 15-day period to August 29, 2005.

A copy of the application and accompanying exhibits will be available for public inspection at the Office of the Foreign-Trade Zones Board's Executive Secretary at address Number 1 listed above, and at the U.S. Department of Commerce Export Assistance Center, 15600 John F. Kennedy Blvd., Suite 530, Houston, TX 77032.

Dated: May 31, 2005.
Dennis Puccinelli,
Executive Secretary.

[FR Doc. 05-11741 Filed 6-13-05; 8:45 am]

BILLING CODE 3510-DS-S